DEPARTMENT OF DEFENSE

Department of the Army, Corps of Engineers

Notice of Intent To Prepare a Draft Feasibility Report and Environmental Impact Statement for the Cedar Port Navigation District Channel Deepening Project, Baytown, TX

AGENCY: Corps of Engineers, Department of the Army, DoD.

ACTION: Notice of intent to prepare a draft feasibility study and environmental impact statement for the Cedar Port Navigation and Improvement District Channel Deepening Project, Baytown, TX.

SUMMARY: Pursuant to the National Environmental Policy Act of 1969 (NEPA), as amended, the U.S. Army Corps of Engineers, Galveston District (USACE) intends to prepare an Environmental Impact Statement (EIS) for the Cedar Port Navigation and Improvement District Channel Deepening Project. The EIS would be prepared in association with a feasibility report prepared by a Non-Federal Interest (NFI)—the Cedar Port Navigation and Improvement District (CPNID) under authority granted by section 203 of WRDA 1986. The study will identify and evaluate the feasibility of providing a deep-water connection between the Houston Ship Channel (HSC) and a planned future deepwater terminal facility at Cedar Port Industrial Park while enhancing efficient, safe, and reliable navigation in the Cedar Bayou Navigation Channel and HSC to existing stakeholder terminals. This notice announces the USACE's intent to determine the scope of the issues to be addressed and identify the significant environmental issues related to the proposed action.

DATES: Public scoping comments should be submitted on or before October 23, 2023, electronically or mailed as written letters. Three public scoping meetings will be held between September and October 2023.

ADDRESSES: Submit all electronic public comments via email to: CESWG-Cedar_Port_EIS@usace.army.mil. Written comments may be mailed to: ATTN: Mr. Christopher Ford, P.O. Box 1229, Galveston, TX 77553-1229.

FOR FURTHER INFORMATION CONTACT: Questions regarding the proposed Draft EIS can be addressed by contacting Mr. Christopher (Brandon) Ford by phone at (409) 766-3079, or by email at Christopher.b.ford@usace.army.mil.

Pertinent information about the study can be found at: www.cedarportchannelproject.com or after publication of the draft EIS at: https://www.swg.usace.army.mil/Business-With-Us/Planning-Environmental-Branch/Documents-for-Public-Review/.

SUPPLEMENTARY INFORMATION:

1. Authority. The Cedar Port Navigation District Channel Deepening Study is authorized under section 203 of WRDA 1986. Section 203 authorizes the NFI to perform feasibility studies (FSs) of proposed water resources development projects for submission directly to the Secretary of the Army. Once submitted, the Assistant Secretary of the Army for Civil Works (ASA[CW]) evaluates the FS and prepares a report for congressional committees that describes whether the project is feasible, including recommendations concerning project design or conditions for construction. The feasibility study phase is 100% funded by the NFI.

2. Background. The potential project area includes Cedar Bayou Navigation Channel, and portions of Tabbs Bay, Trinity Bay and Galveston Bay (Galveston Bay System) adjacent to the HSC in Chambers and Harris Counties, Texas. The project area also includes the existing Cedar Port terminal at Cedar Port Industrial Park in Baytown, Texas. The Cedar Bayou Navigation Channel is a federally authorized 5-mile shallow water barge channel that supports more than 1.5 million tons of cargo per year. The channel primarily serves chemical, aggregate, steel, and asphalt industries, as well as container-on-barge movement with connections to the Port of Houston container terminal. The Cedar Bayou Navigation Channel is separated into 5 Reaches. Reach 1 begins at the HSC between Hog Island and Atkinson Island. Reach 2 extends most of the way across the Cedar Bayou Channel in Galveston Bay. Reach 3 provides access from the Bay to Cedar Point. Reaches 4 and 5 extend northeast into Cedar Bayou to the CPNID Barge Dock and Trans Global Solutions Finger Lakes Dock, among other industrial facilities and stakeholder barge terminals.

The HSC is the busiest waterway in the U.S. and receives 8,000 vessel calls annually, transporting more than 230 million tons of cargo (PAAC 2022). Due to the rising vessel fleet size and cargo tonnage, the current HSC navigational system and port facilities have experienced higher congestion than forecast, and it is anticipated that the volume of throughput will continue to grow over the next ten to twenty years. The purpose of the project is to evaluate the feasibility of and Federal Interest in providing a deep-water connection between the HSC and a planned future deepwater terminal facility at Cedar Port Industrial Park while enhancing efficient, safe, and reliable navigation in the Cedar Bayou Navigation Channel and HSC to existing stakeholder terminals. The Cedar Port deepwater terminal would provide an alternative port facility to accommodate projected volumes and alleviate congestion within the upper reaches of the HSC. The problems identified in the study area are (1) restricted access for deep and non-barge shallow-draft vessel to the existing Cedar Port, (2) navigational constraints and safety, (3) inefficient cargo movements, and (4) scarcity of environmentally acceptable dredged material for beneficial use.

Expected impacts include short- and long-term impacts to existing aquatic habitats, fish and wildlife including federally protected species and their habitat, water quality, air quality, noise, and recreation features. Impacts to aquatic habitats are anticipated to require compensatory mitigation. Additional details related to sediment testing will be described in the Draft EIS.

3. Alternatives. The study will evaluate alternatives that would provide alternative water routes to the deepwater terminal facility. A No Action Alternative is also being considered consistent with the requirements of NEPA. The study examines possible channel widening and deepening to provide for safe and efficient deep draft vessel transit through Reaches 1-3 of the Cedar Bayou Navigation Channel, or approximately 3 miles. The study also will investigate deepening opportunities and widening within the Galveston Bay System to connect HSC to Cedar Bayou Navigation Channel at Reaches 2 and 3.

Alternatives to be considered in Draft EIS are as follows:

• No Action: As required by Section 203 and NEPA, a no action alternative must be considered. Under No Action, no channel deepening or widening would occur.

• Northern Route: This Alterative considers deepening and widening portions of the existing shallow-draft Cedar Bayou Navigation Channel.

• Mid-Route(s): Up to two alternative routes would be considered in this area. Both alternatives would include excavating a new deep-draft channel from the HSC north of the Blue Water Atoll through the existing bay bottom in Upper Galveston Bay to near the mouth of Cedar Bayou.

• Southern Route: This Alternative considers excavating a new deep-draft channel route from the HSC south of Blue Water Atoll through the existing bay bottom in Upper Galveston Bay to near the mouth of Cedar Bayou.

The study will evaluate potential benefits and impacts of the reasonable array of alternatives including direct, indirect, and cumulative effects to the human and natural environments that balance the interests of flood damage reduction and environmental impacts.

4. Public Participation. Scoping completed prior to and after publication of this NOI will be used to develop the EIS. The scoping comment period will begin on September 22, 2023 and will end 30 days after publication of this notice. All comments received during the scoping period are being used to identify additional measures and alternatives, significant resources, and impacts that should be considered in the EIS. Additional comments received outside the scoping period will be considered prior to the Draft EIS public review period, to the extent possible. For comments that cannot be addressed prior to the public review period, the comments will be included with the public review period comments and addressed at that time. In October 2023, Cedar Port in conjunction with the USACE will host two in person Public Scoping Meetings, one in Chambers County and one in Harris County, and a virtual meeting. A Public Notice is available on the project website: www.cedarportchannelproject.com and in the Legal Notices section of the Houston Chronicle. Public news releases announcing the scoping period timeframe; public meeting dates, times, and locations; and where to send comments were published in the appropriate local newspapers, on the project website, and were distributed to the local stakeholders and known interested parties.

5. Coordination. USACE will prepare the EIS based on information and analyses provided by Cedar Point or analyses conducted by USACE as part an agreement with Cedar Point under the authority of Section 203 of WRDA 1986. Other Federal and state agencies have been invited to participate throughout the study process as Coordinating or Participating Agencies. Further coordination with environmental agencies will be conducted by USACE under the NEPA, the Fish and Wildlife Coordination Act, the Endangered Species Act, the Clean Water Act, the Clean Air Act, the National Historic and Preservation Act, the Magnuson-Stevens Fishery Conservation and Management Act, and the Coastal Zone Management Act.

6. Availability of Draft EIS. The Draft EIS is estimated to be available for public review and comment during the fall or early winter of 2023/24. At that time a 45-day public review period will be provided for individuals and agencies to review and comment. USACE will notify all interested agencies, organizations, and individuals of the availability of the draft document at that time. To request a hard copy of the Draft EIS, please email Information@cedarportchannelproject.com or send a request to Cedar Port Channel Project, P.O. Box 741, Rockport, Texas 783. Please include your mailing address.

Wesley E. Coleman, Jr.,
Programs Director, Southwestern Division.

[FR Doc. 2023-20598 Filed 9-21-23; 8:45 am]

BILLING CODE 3720-58-P